DEPARTMENT OF THE INTERIOR

National Park Service

[2253-665]

Notice of Inventory Completion: Fowler Museum at UCLA, Los Angeles, CA

AGENCY: National Park Service, Interior.

ACTION: Notice.

SUMMARY: The Fowler Museum at UCLA has completed an inventory of human remains and associated funerary objects, in consultation with the appropriate Indian tribes, and has determined that that there is a cultural affiliation between the human remains and associated funerary objects and present-day Indian tribes. Repatriation of the human remains and associated funerary objects to the Indian tribes stated below may occur if no additional claimants come forward.

DATES: Representatives of any Indian tribe that believes it has a cultural affiliation with the human remains and associated funerary items should contact the Fowler Museum at UCLA at the address below by May 31, 2012.

ADDRESSES: Wendy G. Teeter, Ph.D., Curator of Archaeology, Fowler Museum at UCLA, Box 951549, Los Angeles, CA 90095-1549, telephone (310) 825-1864.

SUPPLEMENTARY INFORMATION: Notice is here given in accordance with the Native American Graves Protection and Repatriation Act (NAGPRA), 25 U.S.C. 3003, of the completion of an inventory of human remains and associated funerary objects in the possession of the Fowler Museum at UCLA, Los Angeles, CA. The human remains and associated funerary objects were removed from the Coso Junction Ranch Site, Inyo County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Fowler Museum at UCLA professional staff in consultation with representatives of the Big Pine Band of Owens Valley Paiute Shoshone Indians of the Big Pine Reservation, California; Death Valley Timbi-Sha Shoshone Band of California; Duckwater Shoshone Tribe of the Duckwater Reservation, Nevada; Fort Independence Indian Community of Paiute Indians of the Fort Independence Reservation, California; Paiute-Shoshone Indians of the Bishop Community of the Bishop Colony, California; and the Paiute-Shoshone Indians of the Lone Pine Community of the Lone Pine Reservation, California.

History and Description of the Remains

In 1983, human remains representing, at minimum, two individuals were removed from the Coso Junction Ranch Site (CA-INY-2284), located at the south end of Inyo County, CA. No known individuals were identified. The 27 associated funerary objects are 1 awl, 1 bone tool, 2 obsidian biface fragments, 9 bags of obsidian debitage, 4 stone metate fragments, 4 bags of animal bone, 1 obsidian hydration sample, and 5 bags of organic flotation residue.

The collection was excavated in the course of a UCLA Field School conducted in the summer of 1983 under the supervision of David Whitley. The Coso Junction Ranch Site (CA-INY-2284) was a large village site located at the south end of Inyo County, CA. The site dates from about 3500-800 BP (David Whitley, January 20, 1996 email), and mostly from the Gypsum and Rose Spring periods based on analysis of diagnostic artifacts and obsidian hydration dating. The Fowler Museum at UCLA has determined the human remains and associated funerary objects to be Panamint Shoshone, ancestors of the present-day the Death Valley Timbi-Sha Shoshone Band of California and the Paiute-Shoshone Indians of the Lone Pine Community of the Lone Pine Reservation, California, based on ethnography, the prehistoric distribution of Numic languages, and various treaties, Acts of Congress, and Executive Orders. A claim for repatriation has been given by the Lone Pine Community of the Lone Pine Reservation, California.

Determinations Made by the Fowler Museum at UCLA

Officials of the Fowler Museum at UCLA have determined that:

• Pursuant to 25 U.S.C. 3001(9)-(10), the human remains described above represent the physical remains of two individuals of Native American ancestry.

• Pursuant to 25 U.S.C. 3001(3)(A), the 27 objects described above are reasonably believed to have been placed with or near individual human remains at the time of death or later as part of the death rite or ceremony.

• Pursuant to 25 U.S.C. 3001(2), there is a relationship of shared group identity that can be reasonably traced between the Native American human remains and associated funerary objects and the Death Valley Timbi-Sha Shoshone Band of California and the Paiute-Shoshone Indians of the Lone Pine Community of the Lone Pine Reservation, California.

Additional Requestors and Disposition

Representatives of any other Indian tribe that believes itself to be culturally affiliated with the human remains and associated funerary objects should contact Wendy G. Teeter, Ph.D., Curator of Archaeology, Fowler Museum at UCLA, Box 951549, Los Angeles, CA 90095-1549, telephone (310) 825-1864, before May 31, 2012. Repatriation of the human remains and associated funerary objects to the Paiute-Shoshone Indians of the Lone Pine Community of the Lone Pine Reservation, California, may proceed after that date if no additional claimants come forward.

The Fowler Museum at UCLA is responsible for notifying the Big Pine Band of Owens Valley Paiute Shoshone Indians of the Big Pine Reservation, California; Death Valley Timbi-Sha Shoshone Band of California; Duckwater Shoshone Tribe of the Duckwater Reservation, Nevada; Fort Independence Indian Community of Paiute Indians of the Fort Independence Reservation, California; Paiute-Shoshone Indians of the Bishop Community of the Bishop Colony, California; and the Paiute-Shoshone Indians of the Lone Pine Community of the Lone Pine Reservation, California that this notice has been published.

Dated: April 26, 2012.
David Tarler,
Acting Manager, National NAGPRA Program.

[FR Doc. 2012-10491 Filed 4-30-12; 8:45 am]

BILLING CODE 4312-50-P